DEPARTMENT OF TRANSPORTATION

Federal Aviation Administration

Supplemental Type Certificates SA401SW, SE325SW, SE419SW (Original Product Type Certificate Numbers A1CE, 2A13, 1A15, 1A10, 2A3, 273, E5CE, 3E1, E246, and E267)

AGENCY: Federal Aviation Administration (FAA), DOT.

ACTION: Request for information on holder of supplemental type certificates (STC's) prior to FAA declaring STC abandoned.

SUMMARY: This Notice requests the current holder(s)—or their heirs—of STC's SA401SW, Full flow oil filter; SE325SW, Full flow oil filter; SE419SW, Full flow oil filter; come forward and identify themselves before the FAA declares these STC's abandoned.

DATES: We must receive all correspondence by October 30, 2017.

FOR FURTHER INFORMATION CONTACT: Send all correspondence on this issue to: Federal Aviation Administration, Chicago Aircraft Certification Office, 2300 East Devon Avenue, Room 107, Des Plaines, IL 60018. Attn: JoWanna Jenkins, ACE-116C1. All letters must be certified and signed. You may also contact Ms. Jenkins by phone at (847) 294-7145, or electronically at jowanna.jenkins@faa.gov.

SUPPLEMENTARY INFORMATION:

Background

The FAA has received a third party request for the release of data for STC's SA401SW, SE325SW, and SE419SW under the provisions the Freedom of Information Act (FOIA), 5 U.S.C. 552. The FAA cannot release the requested data without the permission of the STC holder. The STC holder last listed on the certificate record is the Superior Flow Company, Division of A & E Manufacturing Inc.; Detroit, MI. The FAA has been unsuccessful in contacting the Superior Flow Company by telephone, email, and/or certified mail. There has been no activity with this STC holder for more than 3 years.

Information Requested

If you are the owner, or heir, or a transferee of STC's SA401SW, SE325SW, or SE419SW, or have any knowledge regarding who may now hold STC's SA401SW, SE325SW, or SE419SW, please contact JoWanna Jenkins using a method described in the FOR FURTHER INFORMATION CONTACT section of this notice. If you are the owner of STC's SA401SW, SE325SW, or SE419SW, you must provide a notarized copy of your Government issued identification (ID) with a letter and background establishing your ownership of the STC's and/or relationship as the heir to the deceased holder of the STC's (if that is the case).

Conclusion

If we do not receive any response by October 30, 2017, we will consider STC's SA401SW, SE325SW, and SE419SW abandoned and we will accordingly proceed with the release of the requested data. This notice is issued in accordance with Section 302 of the FAA Modernization and Reform Act of 2012, Public Law 112-95, https://www.gpo.gov/fdsys/pkg/PLAW-112publ95/content-detail.html. Partially codified as Title 49 of the United States Code (49 U.S.C.) Section 44704(a)(5).

Issued in Kansas City, MO, on April 20, 2017.
Mel Johnson,
Acting Manager, Small Airplane Directorate, Aircraft Certification Service.

[FR Doc. 2017-08753 Filed 4-28-17; 8:45 am]

BILLING CODE 4910-13-P